DEPARTMENT OF JUSTICE

Antitrust Division

Notice Pursuant to the National Cooperative Research and Production Act of 1993—Pistoia Alliance, Inc.

Notice is hereby given that, on October 19, 2020, pursuant to Section 6(a) of the National Cooperative Research and Production Act of 1993, 15 U.S.C. Section 4301 et seq. (the “Act”), Pistoia Alliance, Inc. filed written notifications simultaneously with the Attorney General and the Federal Trade Commission disclosing changes in its membership. The notifications were filed for the purpose of extending the Act's provisions limiting the recovery of antitrust plaintiffs to actual damages under specified circumstances. Specifically, WorldQuant Predictive, New York, NY; tellic, New York, NY; Synthace Ltd., London, UNITED KINGDOM; Scinapsis Analytics Inc. d/b/a BenchSci, Toronto, CANADA; Sapio Sciences, Baltimore, MD; Owkin, New York, NY; Novo Nordisk, Plainsboro, NJ; Iktos, Paris, FRANCE; GenAlz, Longueuil, CANADA; Elucidata Corporation, New Delhi, INDIA; ClinLine, Leiderdorp, NETHERLANDS; Biorelate Ltd., Oldham, UNITED KINGDOM; and Alchemy CGI, Arlington, MA have been added as parties to this venture.

Also, Tag.bio, San Francisco, CA; Statice GmbH, Berlin, GERMANY; Scilligence Corporation, Cambridge, MA; and Kinapse Limited, London, UNITED KINGDOM have withdrawn as parties to this venture.

No other changes have been made in either the membership or planned activity of the group research project. Membership in this group research project remains open, and Pistoia Alliance, Inc. intends to file additional written notifications disclosing all changes in membership.

On May 28, 2009, Pistoia Alliance, Inc. filed its original notification pursuant to Section 6(a) of the Act. The Department of Justice published a notice in the Federal Register pursuant to Section 6(b) of the Act on July 15, 2009 (74 FR 34364).

The last notification was filed with the Department on July 21, 2020. A notice was published in the Federal Register pursuant to Section 6(b) of the Act on August 28, 2020 (85 FR 53400).

Suzanne Morris,
Chief, Premerger and Division Statistics, Antitrust Division.

[FR Doc. 2020-25589 Filed 11-18-20; 8:45 am]

BILLING CODE 4410-11-P